DEPARTMENT OF HEALTH AND HUMAN SERVICES

Centers for Medicare & Medicaid Services

[CMS-4122-N]

Medicare Program; Town Hall Meeting on Proposed Collection and Request for Comments on the Skilled Nursing Facility Advance Beneficiary Notice

AGENCY: Centers for Medicare & Medicaid Services (CMS), HHS.

ACTION: Notice of meeting.

SUMMARY: This notice announces a Town Hall meeting to solicit input from the public on the proposed use of, and revisions to, the Skilled Nursing Facility Advance Beneficiary Notice (SNFABN), CMS-10055 (2006), and accompanying instructions. All interested parties are invited to comment on the proposed SNFABN collection instrument and instructions, including any of the following subjects: (1) The associated time and administrative burden, (2) the ability of the proposed notice to fulfill existing CMS requirements, and (3) ways to enhance the quality and clarity of the information to be collected. The opinions and alternatives provided during this meeting will assist us as we evaluate our policy on issuing notices in skilled nursing facilities. The meeting is open to the public, but attendance is limited to space available.

DATES: Meeting Date: The Town Hall meeting announced in this notice will be held on Tuesday, September 26, 2006 from 1 p.m. to 4 p.m. e.s.t.

ADDRESSES: The Town Hall meeting will be held in the main auditorium of the Centers for Medicare and Medicaid Services, 7500 Security Boulevard, Baltimore, MD 21244. Interested parties attending the meeting must enter the building at the main entrance on the first floor of the Central Building.

Written Questions or Statements: Any interested party may send written comments by mail, fax, or electronically. We will accept written testimony, questions, or other statements until September 20, 2006. Send written testimony, questions, or other statements to Centers for Medicare & Medicaid Services, Medicare Enrollment Appeals Group, Division of Consumer Protection, Mail Stop C2-12-16, 7500 Security Boulevard, Baltimore, Maryland 21244-1850. Attention: Charlayne Van. Fax: (410) 786-8883. E-mail: charlayne.van@cms.hhs.gov.

Although written submissions will be accepted in advance of the meeting, they may not be read during the meeting due to time constraints.

FOR FURTHER INFORMATION CONTACT: Charlayne Van,(410) 786-8659, charlayne.van@cms.hhs.gov.

SUPPLEMENTARY INFORMATION:

Background

The current Skilled Nursing Facility Advance Beneficiary Notice (SNFABN), CMS-10055 (2006), is a notice that the Skilled Nursing Facility (SNF) gives to a Medicare beneficiary, or to his or her authorized representative, before extended care items or services are reduced or terminated, or before non-covered care is initiated. This notice is issued when the SNF, the utilization review entity, the quality improvement organization, or the Medicare contractor believes that Medicare will not pay for or will not continue to pay for extended care items and/or services that the SNF furnishes. Currently, SNFs may also use official denial letters for the same purpose, and must use the general Advance Beneficiary Notice (ABN-G) for Part B services.

In February of 2004, we held a Town Hall meeting to solicit comments on the SNFABN. In response to the questions and comments arising from the 2004 Town Hall meeting, we revised the SNFABN and instructions for its use when delivered by a SNF and paid by Part A or Part B. In July of 2006, we consumer tested the revised form and instructions with Medicare beneficiaries, caregivers, and professional SNF staff members.

In an effort to streamline the notice process and to alleviate confusion for beneficiaries, the new form will replace the current SNFABN for Part A services and the ABN for Part B items and/or services. In addition, we are also considering voluntary uses of the SNFABN so that alternatives, like the Notice of Exclusion from Medicare Benefits (NEMB), will no longer be necessary.

II. Meeting Format

The initial portion of the meeting will be a presentation to provide background on the evolution of the SNFABN and the current notice structure. The remainder of the meeting will be reserved for individual statements from interested parties.

The time for each participant to make statements may be limited according to the number of registered participants. Therefore, individuals who wish to make statements must contact the individual identified in the FOR FURTHER INFORMATION CONTACT section above, at the time of registration to sign up to make a statement. Participants will be permitted to speak in the order in which they sign up. If time permits, comments from individuals not registered to speak will be heard after scheduled statements.

III. Registration Instructions

Anyone who wishes to participate in the public meeting must notify us, in advance, of their interest in attending, and also if they wish to make a statement. Interested parties may register through the Town Hall meeting Web site at SNF_06_Town_Hall@cms.hhs.gov. Please submit the following information when registering: name, company name, address, telephone number and e-mail address. Individuals requiring sign language interpretation or other special accommodations must provide that information upon registration for the meeting. If you have trouble registering over the Internet, you may contact Charlayne Van at (410) 786-8659 or by e-mail at charlayne.van@cms.hhs.gov.

IV. Security, Building, and Parking Guidelines

Because this meeting will be located on Federal property, for security reasons, any persons wishing to attend this meeting must register by close of business on September 20, 2006. Individuals who have not registered in advance will not be allowed to enter the building to attend the meeting. Seating capacity is limited to the first 250 registrants.

The on-site check-in for visitors will be held from 12 noon until 1 p.m. Please allow sufficient time to go through the security checkpoints. It is suggested that you arrive at 7500 Security Boulevard no later than 12 noon so that you will be able to arrive promptly at the meeting by 1 p.m. All items brought to the building, whether personal or for the purpose of demonstration or to support a presentation, are subject to inspection.

Security measures will include inspection of vehicles, inside and out, at the entrance to the grounds. In addition, all persons entering the building must pass through a metal detector. All items brought to CMS, including personal items such as desktops, cell phones, and palm pilots, are subject to physical inspection.

Authority : Section 1879 of the Social Security Act, 42 U.S.C. 1395pp.

(Catalog of Federal Domestic Assistance Program No. 93.774, Medicare—Supplementary Medical Insurance Program)

Dated: August 18, 2006.
Mark B. McClellan,
Administrator, Centers for Medicare & Medicaid Services. CMS-4122-N 2

[FR Doc. E6-14147 Filed 8-24-06; 8:45 am]

BILLING CODE 4120-01-P